DEPARTMENT OF DEFENSE

Office of the Secretary

Defense Science Board

AGENCY: Department of Defense.

ACTION: Notice of Advisory Committee Meeting.

SUMMARY: The Defense Science Board Task Force on Test and Training Sub-scale and Full-scale Aerial Targets will meet in closed session on February 8-9, 2005, March 14-16, 2005, and April 13-14, 2005, at SAIC, 4001 N. Fairfax Drive, Arlington, VA. The Task Force will also meet in closed session on March 14-16, 2005, at Pt. Mugu Naval Air Weapons Station, CA. This Task Force will review the future needs for sub-scale and full-scale aerial targets for developmental and operational testing.

The mission of the Defense Science Board is to advise the Secretary of Defense and the Under Secretary of Defense for Acquisition, Technology & Logistics on scientific and technical matters as they affect the perceived needs of the Department of Defense. The Task Force should investigate future aerial threats as well as weapon and sensor capability in the 2005-2020 timeframe, to understand those characteristics necessary to provide effective threat representation. They should also review to what extent other alternatives including modeling and simulation can supplement live target test and training. The Task Force will assess the possibility of common aerial target configuration, control and use that can support testing needs of more than one system or complex system of systems across multiple Services. Included in the review should be the degree of fidelity in threat replication throughout the threat regime required for systems development and effective testing. The Task Force should consider testing needs across the full development cycle from concept development to operational test and evaluation and training.

In accordance with Section 10(d) of the Federal Advisory Committee Act, Public Law 92-463, as amended (5 U.S.C. App. 2), it has been determined that these Defense Science Board Task Force meetings concern matters listed in 5 U.S.C. 552b(c)(1) and that, accordingly, these meetings will be closed to the public.

Dated: January 18, 2005.
Jeannette Owings-Ballard,
OSD Federal Register Liaison Officer, Department of Defense.

[FR Doc. 05-1462 Filed 1-26-05; 8:45 am]

BILLING CODE 5001-06-M